DEPARTMENT OF THE INTERIOR

Fish and Wildlife Service

RIN 1018-AH86

Final Environmental Impact Statement (FEIS) for the Florida Manatees; Incidental Take Rule Under the Marine Mammal Protection Act During Specified Activities

AGENCY: Fish and Wildlife Service, Interior.

ACTION: Notice of availability.

SUMMARY: We, the Fish and Wildlife Service (Service), announce the availability of the FEIS that assesses effects from proposing regulations to authorize the incidental, unintentional take of small numbers of Florida manatees (Trichechus manatus latirostris) resulting from government activities related to watercraft and watercraft access facilities within three regions of Florida for the next five years. This FEIS analyzes the environmental and socioeconomic consequences of the proposed action, and alternatives to the proposed action, as required under section 102(2)(c) of the National Environmental Policy Act.

DATES: The Fish and Wildlife Service will execute a Record of Decision based on the FEIS, no sooner than May 3, 2003, or 30 days after the date of publication of this Notice of Availability in the Federal Register, and after publication of the related notice by the Environmental Protection Agency.

ADDRESSES: Information regarding this FEIS is available in alternative formats upon request. Comments and materials received on the proposed EIS, as well as supporting documentation used in the preparation of this FEIS, will be available for public inspection, by appointment, during normal business hours from 8 a.m. to 4:30 p.m. Monday through Friday at the Jacksonville Field Office, U.S. Fish and Wildlife Service, 6620 Southpoint Drive, South, Suite 310, Jacksonville, Florida 32216. You may obtain copies of this document online at http://northflorida.fws.gov, by electronic mail request to manatee@fws.gov or by calling Chuck Underwood of the Jacksonville Field Office at (904) 232-2580 (extension 109).

SUPPLEMENTARY INFORMATION:

Background

The MMPA of 1972 (16 U.S.C. 1361-1407) sets a general moratorium, with certain exceptions, on the taking and importation of marine mammals and marine mammal products and makes it unlawful for any person to take, possess, transport, purchase, sell, export, or offer to purchase, sell, or export, any marine mammal or marine mammal product unless authorized. “Take” as defined by the MMPA and its implementing regulations (50 CFR part 18) means “to harass, hunt, capture, collect, or kill, or attempt to harass, hunt, capture, collect, or kill any marine mammal, including, without limitation, any of the following—the collection of dead animals or parts thereof; the restraint or detention of a marine mammal, no matter how temporary; tagging a marine mammal; or the negligent or intentional operation of an aircraft or vessel, or the doing of any other negligent or intentional act which results in the disturbing or molesting of a marine mammal.”

“Harassment” is defined under the MMPA as, “any act of pursuit, torment, or annoyance which—(i) has the potential to injure a marine mammal or marine mammal stock in the wild; or (ii) has the potential to disturb a marine mammal or marine mammal stock in the wild by causing disruption of behavioral patterns, including, but not limited to, migration, breathing, nursing, breeding, feeding, or sheltering.”

The prohibitions on take apply to all persons, including Federal, State, and local government agencies with the exception of humane taking (including euthanasia) by government officials while engaged in their official duties, if such taking is (1) for the protection or welfare of a marine mammal; (2) for the protection of the public health and welfare; or (3) the non-lethal removal of nuisance animals. When feasible, steps designed to ensure return of such animals to their natural habitat, if not killed in the course of such taking, must be implemented (16 U.S.C. 1379(h)).

Section 101(a)(5)(A) of the MMPA allows the Secretary of the Department of the Interior, through the Director of the Service, upon request, to authorize by specific regulation the incidental, unintentional take of small numbers of marine mammals by U.S. citizens engaged in specific identified activities (other than commercial fishing) within specific geographic areas. This is the mechanism by which incidental, but not intentional, take of small numbers of marine mammals may be authorized in accordance with Federal law for activities other than commercial fishing if certain findings are made and regulations are enacted pursuant to 50 CFR 18.27. The Director must find that the total of such taking during the specified time period (which cannot be more than five consecutive years) will have no more than a negligible impact on the species or stock and will not have an unmitigable impact on the availability of such species or stock for subsistence uses. The subsistence provision is not applicable to Florida manatees.

The regulations implementing the MMPA define negligible impact as an impact resulting from the specified activity that cannot be reasonably expected to, and is not reasonably likely to, adversely affect the species or stock through effects on annual rates of recruitment or survival (50 CFR 18.27(c)). If negligible impact findings are made, we establish specific regulations identifying permissible methods of taking by such activity, means of effecting the least practicable adverse impact on the species or stock and its habitat, and requirements for monitoring and reporting such taking. If a finding cannot be made that the total taking will have a negligible impact on the species or stock, the negative finding and the basis for denying the request for the incidental take must be published in the Federal Register pursuant to 50 CFR 18.27(d)(4).

We have defined the specified geographic area for this action to be the species range within the State of Florida. Long-term studies suggest four regional populations of manatees in Florida—Northwest, Upper St. Johns River (from Palatka south), Atlantic (including the St. Johns River north of Palatka), and Southwest, and we have defined these populations as stocks.

Based upon the best available scientific information, we concluded in the November 14, 2002, proposed rule and draft Environmental Impact Statement (66 FR 69078) that the total expected takings of Florida manatees resulting from government activities that authorize or regulate watercraft or watercraft access facilities would have a negligible impact on three of the four stocks. In accordance with 50 CFR 18.27, we will publish a final determination on each of the four stocks in the Federal Register upon finalization of a record of decision at the close of the waiting period.

If we determine that these activities will have negligible impact, government agencies who engage in the specified activities in the specified area could apply for a Letter of Authorization (LOA), which, if granted, would authorize incidental take associated with the applicant's activities. In return for committing to specific measures that minimize the applicant's impact on the stock and ensure that the total taking remains at the negligible level, the applicant receives authorization for any remaining take that occurs and that would otherwise be unlawful under the MMPA. General procedures for obtaining an LOA are described at 50 CFR 18.27(f).

Author

The primary author of this notice is Pete Benjamin (904/232-2580).

Authority

The authority to establish regulations that would authorize for the next five years the incidental, unintentional take of small numbers of Florida manatees is provided by the Marine Mammal Protection Act of 1972 (16 U.S.C. 1361-1407), as amended.

Dated: March 26, 2003.
Judy Pulliam,
Acting Regional Director.

[FR Doc. 03-8274 Filed 4-3-03; 8:45 am]

BILLING CODE 4310-55-P